DEPARTMENT OF THE INTERIOR

Bureau of Ocean Energy Management, Regulation and Enforcement

Commercial Wind Lease Issuance and Site Characterization Activities; Atlantic Outer Continental Shelf Offshore NJ, DE, MD, and VA

AGENCY: Bureau of Ocean Energy Management, Regulation and Enforcement (BOEMRE), Interior.

ACTION: Notice of Intent to Prepare an Environmental Assessment for Mid-Atlantic Wind Energy Areas.

SUMMARY: This notice is being published as an initial step for the purpose of involving Federal agencies, States, Tribes, local government, wind power developers, and the public in the Department of the Interior's (DOI) “Smart from the Start” wind energy initiative, to identify areas for wind energy leasing proposals, and to provide public notice of the Department's commitment to analyze the initiative's siting, leasing and site assessment decisions in accordance with the DOI regulations implementing the provisions of the National Environmental Policy Act (NEPA) of 1969 as amended (42 U.S.C. 4321 et seq.). On November 23, 2010, Secretary of the Interior Ken Salazar announced the “Smart from the Start” renewable energy initiative to accelerate responsible renewable wind energy development on the Atlantic Outer Continental Shelf (OCS) by using appropriate identified areas, coordinated environmental studies, large-scale planning and expedited approval processes. This notice identifies Wind Energy Areas (WEAs) offshore New Jersey, Delaware, Maryland, and Virginia that the Bureau of Ocean Energy Management, Regulation and Enforcement (BOEMRE) has found, in consultation with other Federal agencies and State Renewable Energy Task Forces, to be suitable for consideration for wind energy development.

Authority: The NOI of the preparation of an environmental assessment is published pursuant to 43 CFR 46.305.

FOR FURTHER INFORMATION CONTACT: Michelle Morin, BOEMRE Office of Offshore Alternative Energy Programs, 381 Elden Street, MS 4090, Herndon, Virginia 20170-4817, (703) 787-1722 or michelle.morin@boemre.gov.

SUPPLEMENTARY INFORMATION:

1. The OCS Renewable Energy Development Process

There are generally three phases of renewable energy development on the OCS: lease issuance, site assessment, and construction and operation of a renewable energy facility. A renewable energy lease gives the lessee an exclusive right to apply for subsequent approvals that are necessary to advance to the next stage of the renewable energy development process. The second phase is BOEMRE review and approval of a site assessment plan (SAP) that allows the construction and installation of a meteorological tower and buoys. See 30 CFR 285.600-.601; .605-.618. After the lessee has collected sufficient site characterization and assessment data the lessee may submit a construction and operations plan (COP), approval of which would authorize the actual construction and operation of a renewable energy facility. See 30 CFR 285.620-.629. Although BOEMRE does not authorize site characterization activities (i.e., geological and geophysical surveys and core samples), a lessee must submit the results of such surveys before BOEMRE can consider approving its COP. See 30 CFR 285.626.

By this notice, BOEMRE is soliciting comment on the environmental effects of reasonably foreseeable site characterization surveys that may be undertaken if BOEMRE issues a lease or leases in any or all of the identified WEAs. Consistent with the provisions of 43 CFR 46.305 (public involvement in the environmental assessment process), the Department “must, to the extent practicable, provide for public notification and public involvement when an Environmental Assessment is being prepared.” Although scoping is not required for the preparation of an environmental assessment (EA) (CEQ regulations at 40 CFR 1501.7 specifically reference the preparation of an Environmental Impact Statement (EIS)), the Department recognizes and encourages the use of scoping where appropriate as it does represent a form of public involvement. See 43 CFR 46.305(a)(2), 73 FR 61292, 61306 (Oct. 15, 2008). BOEMRE intends to prepare a regional EA to analyze the environmental impacts of issuing renewable energy leases in the geographic areas offshore the States of New Jersey, Delaware, Maryland, and Virginia (identified as WEAs in Section 3 of this Notice), including environmental impacts associated site characterization activities that may take place on these leases. The EA will also analyze the potential environmental consequences associated with the approval of site assessment activities on these leases pursuant to the approval of SAPs.

The proposed action is the issuance of renewable energy leases within the WEAs described in Section 3 of this Notice, and approval of site assessment activities on those leases. The regional EA will consider the environmental consequences associated with reasonably foreseeable leasing scenarios, reasonably foreseeable site characterization scenarios in these lease areas (including geophysical, geotechnical, archeological and biological surveys), and reasonably foreseeable site assessment scenarios (including the installation and operation of meteorological towers and buoys) on the potential leaseholds. At a minimum, the alternatives that will be considered are no action (i.e., no issuance of leases or approval of site assessment activities), and the issuance of leases and approval of certain site assessment activities within the areas described in Section 3 of this Notice.

Federal, State, and local government agencies, Tribal governments, and other interested parties may assist BOEMRE in determining the important issues and any additional alternatives to be analyzed in the regional EA. Input is also requested on measures (e.g., limitations on activities based on technology, distance from shore, or timing) that would mitigate impacts to environmental resources and socioeconomic conditions that could result from leasing, site characterization, and site assessment in and around the WEAs described below. It may become appropriate to analyze one or more WEAs in separate EAs. Consultation with other Federal agencies, Tribal governments, and affected States will be carried out during the EA process and will be completed before a final decision is made on whether any particular lease will be issued or site assessment activities on those leases approved.

2. Background for Analysis of Wind Energy Areas

On November 6, 2007, BOEMRE published a Notice of Availability in the Federal Register (72 FR 62,672) of the Programmatic Environmental Impact Statement for Alternative Energy Development and Production and Alternate Use of Facilities on the Outer Continental Shelf, Final Environmental Impact Statement (OCS Report MMS 2007-046) (Programmatic EIS). On June 26, 2009, BOEMRE published a Notice of Availability in the Federal Register (74 FR 30,616) of the EA for Issuance of Leases for Wind Resource Data Collection on the Outer Continental Shelf Offshore Delaware and New Jersey (OCS EIS/EA MMS 2009-025) (Interim Policy EA). BOEMRE has seen very strong interest in offshore renewable energy projects on the OCS and is working closely with several states regarding the identification of offshore energy development proposals through Federal-state task forces. More information on the task forces and the “Smart from the Start” initiative can be found at http://www.boemre.gov/offshore/RenewableEnergy/StateActivities.htm and http://www.doi.gov/news/pressreleases/Salazar-Launches-Smart-from-the-Start-Initiative-to-Speed-Offshore-Wind-Energy-Development-off-the-Atlantic-Coast.cfm.

BOEMRE will incorporate the environmental and socioeconomic analyses of site characterization and assessment activities from the Programmatic EIS, Interim Policy EA, and other public information to inform its analysis in the Regional EA. This Regional EA will focus on the environmental consequences of a reasonably foreseeable renewable energy lease issuance scenario, and the site characterization and site assessment activities that would likely take place within these lease areas as potential lessees developed their COP proposals. Site characterization activities include geophysical, geotechnical, archeological and biological surveys. Site assessment activities include those activities that must be submitted in a SAP for approval by BOEMRE, including the installation and operation of meteorological towers and buoys. The Regional EA will be developed using many of the principles of coastal and marine spatial planning, such as comprehensive interagency coordination, to identify information needs for COP submittals necessary for future decision-making regarding wind power development. If BOEMRE determines during the Regional EA process that issuing leases and conducting site characterization and assessment activities offshore New Jersey, Delaware, Maryland, and Virginia would result in significant environmental impacts, then BOEMRE would publish a Notice of Intent to prepare an EIS for the issuance of renewable energy leases in these WEAs. If BOEMRE determines during the Regional EA process that issuing leases and conducting site characterization and assessment activities in these WEAs would not result in significant environmental impacts, then BOEMRE would issue a Finding of No Significant Impact (FONSI). After either a FONSI is issued or the EIS process is completed, BOEMRE may issue one or more renewable energy leases in the WEAs. In the event that a particular lease is issued, and the lessee submits a SAP, BOEMRE will determine whether the Regional EA adequately considers the environmental consequences of the activities proposed in the lessee's SAP. If the analysis in the Regional EA adequately addresses these consequences, then no further NEPA would be required before the SAP is approved. If that analysis is inadequate, an additional NEPA analysis would be prepared before the SAP could be approved.

If and when a lessee is ready to begin the third phase of renewable energy development, construction and operations of a renewable energy facility, it will submit a COP. If a COP is submitted for a particular leasehold, a separate NEPA analysis will be prepared. This will likely take the form of an EIS and will provide additional opportunities for public involvement. Pursuant to 30 CFR Part 285, a lessee may only submit a COP once it has gathered the necessary information through conducting site characterization and site assessment activities. Such an EIS process will provide the public and Federal officials with comprehensive site- and project-specific information regarding potential environmental impacts of the project that the lessee is proposing. These potential impacts will be taken into account when deciding whether to approve the construction and operation of a new commercial wind facility.

3. Description of the Wind Energy Areas

BOEMRE, in consultation with other Federal agencies and State Renewable Energy Task Forces, has identified the following WEAs in which BOEMRE is proposing to begin the commercial lease issuance process and subsequent SAP approval process:

New Jersey: The proposed area offshore New Jersey begins 7 nautical miles from the shore and extends roughly 23 nautical miles seaward (or the approximate 100 ft depth contour) and extends 72 nautical miles along the Federal/state boundary from Seaside Park south to Hereford Inlet. The entire area is approximately 418 square nautical miles and contains approximately 43 whole OCS blocks and 34 partial blocks.

Delaware: The proposed area offshore Delaware rests between the incoming and outgoing shipping routes for Delaware Bay, and is made up of 10 whole OCS blocks and 17 partial blocks. The closest point to shore is approximately 7.5 miles due east from Rehoboth Beach, Delaware. Bluewater Wind Delaware, LLC already owns an Interim Policy lease in this area to construct a meteorological tower and associated structures on its leasehold (equivalent to structures and devices requiring SAP approval). BOEMRE is requesting comment on the reasonably foreseeable environmental effects associated with issuing a commercial lease in this area and with the lessee conducting additional site characterization activities on such a lease.

Maryland: The proposed area offshore Maryland is made up of 29 whole OCS blocks and 4 partial blocks. The entire area is approximately 207 square nautical miles; 175,069 acres; or 70,848 hectares. The western edge is approximately 10 nautical miles from the Ocean City, Maryland coast, and the eastern edge is approximately 27 nautical miles from the Ocean City, Maryland coast.

Virginia: The proposed area offshore Virginia is made up of 22 OCS lease blocks and 5 partial blocks. The Western edge of the area is approximately 20 nautical miles from Virginia Beach, and the Eastern edge is approximately 37 nautical miles from Virginia Beach. The entire area is approximately 165 square nautical miles; 139,855 acres; or 56,597 hectares.

A map of the WEAs described above is available on the BOEMRE website at http://www.boemre.gov/offshore/RenewableEnergy/. In 2010, BOEMRE began publishing Requests for Interest and Calls for Information for the areas above pursuant to 30 CFR 285.210-211 of the Competitive Lease Process. As a result of comments received on these notices and the analysis in the Regional EA, the WEAs offshore New Jersey, Maryland, Delaware, and Virginia may be further refined or modified. In addition, it may become appropriate to analyze one or more WEAs in separate EAs.

4. Cooperating Agencies

BOEMRE invites other Federal agencies and State, tribal, and local governments to consider becoming cooperating agencies in the preparation of the Regional EA. The Council of Environmental Quality (CEQ) regulations implementing the procedural provisions of NEPA define cooperating agencies as those with “jurisdiction by law or special expertise” (40 CFR 1508.5). Potential cooperating agencies should consider their authority and capacity to assume the responsibilities of a cooperating agency and to remember that an agency's role in the environmental analysis neither enlarges nor diminishes the final decisionmaking authority of any other agency involved in the NEPA process.

Upon request, BOEMRE will provide potential cooperating agencies with a draft Memorandum of Agreement that includes a schedule with critical action dates and milestones, mutual responsibilities, designated points of contact, and expectations for handling predecisional information. Agencies should also consider the “Factors for Determining Cooperating Agency Status” in Attachment 1 to CEQ's January 30, 2002, Memorandum for the Heads of Federal Agencies: Cooperating Agencies in Implementing the Procedural Requirements of the NEPA. A copy of this document is available at http://ceq.hss.doe.gov/nepa/regs/cooperating/cooperatingagenciesmemorandum.html

and http://ceq.hss.doe.gov/nepa/regs/cooperating/cooperatingagencymemofactors.html.

BOEMRE, as the lead agency, will not provide financial assistance to cooperating agencies. Even if an organization is not a cooperating agency, opportunities will exist to provide information and comments to BOEMRE during the normal public input phases of the NEPA/EA process.

5. Comments

Federal, state, local government agencies, Tribal governments, and other interested parties are requested to send their written comments on BOEMRE's scoping of the Regional EA (including important issues, alternatives related to lease issuance, and site assessment activities that should be addressed) in one of the following ways:

1. Electronically: http://www.regulations.gov. In the entry titled “Enter Keyword or ID,” enter BOEM-2010-0077, then click search. Follow the instructions to submit public comments and view supporting and related materials available for this document.

2. In written form, delivered by hand or by mail, enclosed in an envelope labeled “Comments on Mid Atlantic WEA Regional EA” to Program Manager, Office of Offshore Alternative Energy Programs (MS 4090), Bureau of Ocean Energy Management, Regulation and Enforcement, 381 Elden Street, Herndon, Virginia 20170. Comments should be submitted no later than March 11, 2011.

Dated: January 27, 2011,
L. Renee Orr,
Acting Associate Director for Offshore Energy and Minerals Management.

[FR Doc. 2011-2774 Filed 2-8-11; 8:45 am]

BILLING CODE 4310-MR-W-P